DEPARTMENT OF HOMELAND SECURITY

Coast Guard

33 CFR Part 117

[USCG-2013-0229]

Drawbridge Operation Regulations; Newtown Creek, New York City, NY

AGENCY: Coast Guard, DHS.

ACTION: Notice of temporary deviation from regulations.

SUMMARY: The Commander, First Coast Guard District, has issued a temporary deviation from the regulation governing the operation of the Greenpoint Avenue Bridge across Newtown Creek, mile 1.3, at New York City, New York. The deviation is necessary to facilitate bridge painting operations. Under this temporary deviation, the bridge may remain in the closed position for various times up to six days at a time during a four month period.

DATES: This deviation is effective from May 1, 2013 through September 30, 2013.

ADDRESSES: The docket for this deviation, [USCG-2013-0229] is available at http://www.regulations.gov. Type the docket number in the “SEARCH” box and click “SEARCH.” Click on Open Docket Folder on the line associated with this deviation. You may also visit the Docket Management Facility in Room W12-140, on the ground floor of the Department of Transportation West Building, 1200 New Jersey Avenue SE., Washington, DC 20590, between 9 a.m. and 5 p.m., Monday through Friday, except Federal holidays.

FOR FURTHER INFORMATION CONTACT: If you have questions on this temporary deviation, call or email Ms. Judy Leung-Yee, Project Officer, First Coast Guard District, judy.k.leung-yee@uscg.mil, or (212) 668-7165. If you have questions on viewing the docket, call Barbara Hairston, Program Manager, Docket Operations, telephone 202-366-9826.

SUPPLEMENTARY INFORMATION: The Greenpoint Avenue Bridge has a vertical clearance of 26 feet at mean high water and 31 feet at mean low water in the closed position. The existing drawbridge operating regulations are found at 33 CFR 117.801(g).

The bridge owner, New York City Department of Transportation, requested multiple six day closure periods between May 1, 2013 and September 30, 2013, to facilitate bridge painting operation at the Greenpoint Avenue Bridge. Each six day closure period will be followed with four days of normal bridge operations. The exact time and dates of each six day closure period will be announced in the Local Notice to Mariners and also with a Broadcast Notice to Mariners at least two weeks in advance of each closure period. This temporary deviation will be in effect from May 1, 2013 through September 30, 2013.

The waterway users are commercial oil and barge vessels. The oil facilities were all contacted and advised of the closures and no objections were received.

In accordance with 33 CFR 117.35(e), the bridge must return to its regular operating schedule immediately at the end of the designated repair period. This deviation from the operating regulations is authorized under 33 CFR 117.35.

Dated: April 10, 2013.
Gary Kassof,
Bridge Program Manager, First Coast Guard District.

[FR Doc. 2013-09551 Filed 4-22-13; 8:45 am]

BILLING CODE 9110-04-P